DEPARTMENT OF DEFENSE

Office of the Secretary

32 CFR Part 322

[Docket ID: DOD-2020-OS-0030]

RIN 0790-AK68

National Security Agency/Central Security Services Privacy Act Program

AGENCY: National Security Agency/Central Security Services, DoD.

ACTION: Final rule.

SUMMARY: This final rule removes the Department of Defense (DoD) regulation concerning the National Security Agency/Central Security Services (NSA/CSS) Privacy Program. On April 11, 2019, the DoD published a revised DoD-level Privacy Program rule, which contains the necessary information for an agency-wide privacy program regulation under the Privacy Act and now serves as the single Privacy Program rule for the Department. That revised Privacy Program rule also includes all DoD component exemption rules. Therefore, this part is now unnecessary and may be removed from the Code of Federal Regulations (CFR).

DATES: This rule is effective on July 6, 2020.

FOR FURTHER INFORMATION CONTACT: Mrs. Deneen Farrell, 301-688-6311.

SUPPLEMENTARY INFORMATION: DoD has issued a single consolidated DoD-level Privacy Program rule at 32 CFR part 310 (84 FR 14728) that contains all the codified information required for the Department. The NSA/CSS Privacy Act Program regulation at 32 CFR part 322, last updated on March 30, 2012 (77 FR 19095), is no longer required and can be removed.

It has been determined that publication of this CFR part removal for public comment is impracticable, unnecessary, and contrary to public interest since it is based on the removal of policies and procedures that are either now reflected in another CFR part, 32 CFR part 310, or are publicly available on the Department's website. To the extent that the NSA/CSS's internal guidance concerning the implementation of the Privacy Act within the NSA/CSS is required, a supplemental internal document to the DoD Privacy regulation will be posted to https://dpcld.defense.gov/Privacy/SORNsIndex/DOD-Component-Notices/NSA-Article-List/.

This rule is one of 20 separate DoD component Privacy rules that are being rescinded as part of the finalization of the DoD-level Privacy rule at 32 CFR part 310, the Department is eliminating the need for this separate component Privacy rule and reducing costs to the public as explained in the preamble of the DoD-level Privacy rule published on April 11, 2019 (84 FR 14728-14811).

This rule is not significant under Executive Order (E.O.) 12866, “Regulatory Planning and Review.” Therefore, E.O. 13771, “Reducing Regulation and Controlling Regulatory Costs” does not apply. This removal supports a recommendation of the DoD Regulatory Reform Task Force.

List of Subjects in 32 CFR Part 322

Privacy.

PART 322—[REMOVED]

Accordingly, by the authority of 5 U.S.C. 301, 32 CFR part 322 is removed.

Dated: June 12, 2020.
Aaron T. Siegel,
Alternate OSD Federal Register Liaison Officer, Department of Defense.

[FR Doc. 2020-13112 Filed 7-2-20; 8:45 am]

BILLING CODE 5001-06-P